DEPARTMENT OF THE INTERIOR

Bureau of Land Management

[NV-920-1640-BF-NVZH]

Emergency Closure of Federal Lands, Lyon County, NV

AGENCY: Bureau of Land Management, Nevada.

ACTION: Emergency Closure of Federal Lands, Lyon County, Nevada.

SUMMARY: Notice is hereby given that all public lands at the Anaconda/Yerington Mine Site, located in Lyon County, Nevada, are closed to all forms of entry by the public. This closure is necessary to protect the public from hazards that are located throughout the former mine site. The Unilateral Administrative Order for Initial Response Activities issued by the United States Environmental Protection Agency, states; “Carcinogens at the Site include, arsenic, chromium, the radioisotopes of uranium (uranium-234, uranium-235, and uranium-238), the radioisotopes of thorium (thorium-230 and thorium-232), and the radioisotopes of radium (radium-228 and radium-226). Aluminum, arsenic, beryllium, boron, cadmium, copper, iron, lead, manganese, mercury, molybdenum, selenium, zinc, uranium, and chloride and sulfate are toxic metal contaminants at the Site. Disturbed and concentrated heavy metals at the Site pose threats through inhalation and ingestion that can result in neurological, kidney, and liver damage, and behavior and learning problems.” This closure will remain in effect until the Field Office Manager determines it is no longer needed. This closure does not apply to authorized employees and contractors.

DATES: Effective Date: This closure is effective immediately and will be verified upon publication in the Federal Register. It will remain in effect until the Manager, Carson City Field Office, determines it is no longer needed.

FOR FURTHER INFORMATION CONTACT: Craig Smith, Physical Scientist, Bureau of Land Management, 1340 Financial Blvd, Reno, NV 89520 Telephone (775) 861-6453.

SUPPLEMENTARY INFORMATION: The authority for the closure is 43 CFR 8364.1. Any person who fails to comply with this closure may be subject to the penalties provided in 43 CFR 8360.0-7 and are subject to arrest or fine not to exceed $1,000 or by imprisonment not to exceed 12 months. This order applies to all forms of entry, excluding (1) any emergency, law enforcement or other BLM vehicle while being used for emergency or administrative purposes, and (2) any vehicle whose use is expressly authorized by the EPA Project Manager for this site. The public lands affected by the closure order are, T. 13 N., R. 25 E., sec. 4, W½SE¼SE¼ and SW¼SW¼; sec. 5, lots 1, 2, 3, 5, 6, and 7, and SW¼NE¼; sec. 8, lots 1, 3, and 4, and that portion of the SW¼SW¼ lying east of the eastern edge of the Haul Road to the Plant at Yerington Mine; sec. 9, W½NE¼NE¼, W½NE¼, NW¼SE¼NE¼, E½NW¼, NW¼NW¼, E½SW¼, and SW¼SW¼; sec. 16, lots 3, 4, 5, 7, 8, 9, 10, and 11, NW¼NE¼, and N½NW¼, and that portion of lot 6 lying west of the westerly right-of-way of State Route No. 339; sec. 17, lots 7, 14, and 15, and those portions of the N½SW¼NE¼, N½NW¼, and NE¼SE¼NW¼ lying north and east of the northeasterly edge of the Haul Road to the Plant at Yerington Mine; sec. 20, lot 5, and those portions of lots 2, 3, and 4, lying east of the toe of the Anaconda Mine waste rock dump; sec. 21, lots 1, 2, 3, and 4, and SW¼NW¼, and that portion of the SW¼ lying north and east of the toe of the Anaconda Mine waste rock dump, and those portions of lot 6, N½SW¼SE¼, SW¼SW¼SE¼, and W½SE¼SW¼SE¼ lying west of the toe of the Anaconda Mine waste rock dump; sec. 28, those portions of the N½NW¼, and W½NW¼NE¼ lying north of the toe of the Anaconda Mine waste rock dump.

The public lands affected by the restriction order constitute approximately 1,380 acres of land. These lands are depicted on maps in the Nevada State Office, where copies of these maps may be obtained.

Dated: April 11, 2005.
Donald T Hicks, Manager, Carson City Field Office.

[FR Doc. 05-7556 Filed 4-14-05; 8:45 am]

BILLING CODE 4310-HC-P